DEPARTMENT OF THE TREASURY

Submission for OMB Review; Comment Request

September 12, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 20, 2003 to be assured of consideration.

Financial Management Service (FMS)

OMB Number: New collection.

Form Number: None.

Type of Review: New collection.

Title: Electronic Funds Transfer (EFT) Market Research Study.

Description: FMS/Treasury, Federal Reserve Bank of St. Louis and its contractor study of Federal benefit recipients to identify barriers to significant increasers is use of EFT for benefit payments.

Respondents: Individuals or households, Federal Government.

Estimated Number of Respondents: 2,515.

Estimated Burden Hours Per Respondent: 3 hours and 29 minutes.

Frequency of Response: Quarterly.

Estimated Total Reporting Burden: 764 hours.

Clearance Officer: Juanita Holder, Financial Management Service, 3700 East West Highway, Room 135, PGP II, Hyattsville, MD 20782.

OMB Reviewer: Joseph F. Lackey, Jr., (202) 395-7316, Office of Management and Budget, Room 10235, New Executive Office Building, Washington, DC 20503.

Lois K. Holland,
Treasury PRA Clearance Officer.

[FR Doc. 03-23945 Filed 9-18-03; 8:45 am]

BILLING CODE 4810-35-P